DEPARTMENT OF THE INTERIOR

National Park Service

National Register of Historic Places; Notification of Pending Nominations

Nominations for the following properties being considered for listing in the National Register were received by the National Park Service before May 31, 2003. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by July 3, 2003.

Carol D. Shull,
Keeper of the National Register of Historic Places.

California

Sacramento County

Ehrhardt, William, House, Dartmoor Way and Percheron Dr., Elk Grove, 03000614

Yolo County

Union Church of Dunnigan, 3615 Cty Rd. 89A, Dunnigan, 03000613

Colorado

Boulder County

Jamestown Town Hall, 118 Main St., Jamestown, 03000615

Louisiana

East Baton Rouge Parish

Broussard House, 4512 Highland Rd., Baton Rouge, 03000616

Maine

Cumberland County

Freeman Farm Historic District, 342 W. Gray Rd., Gray, 03000621

Knox County

Beechnut Hut Historic District, 316 Beech Hill Rd., Rockport, 03000617

Lincoln County

Arch Bridge, Over the Pemaquid R on Benner Rd., Bristol, 03000618

Oxford County

Bell Hill Meetinghouse, 191 Bell Hill Rd., Otisfield, 03000620

Bell Hill School, 185 Bell Hill Rd., Otisfield, 03000619

Michigan

Alpena County

Fishing Tug Katherine V, 491 Johnson St., Alpena, 03000622

Benzie County

Watervaile Historic District, 975-1422 Watervale Rd., Blaine Township, 03000624

Houghton County

Vivian, Jr., J., and Company Building, 342 Hecla St., Laurium, 03000625

Leelanau County

Fountain Point, 990 South Lake Leelanau Dr., Suttoms Bay Township, 03000623

Texas

Bexar County

Bungalow Colony Historic District, Roughly bounded by Duncan Dr., Crockett Dr., Walker Rd. and Robins Dr., San Antonio, 03000627

Kelly Field Historic District, Roughly encompassing the 1600 abd 1700 Areas of Kelly AFB, San Antonio, 03000626

Utah

Salt Lake County

Crown Cleaning and Dyeing Company Building, (Sugar House Business District MPS), 1989 South 1100 East, Salt Lake City, 03000633

Granite LDS Stake Tabernacle, (Sugar House Business District MPS), 2005 South 900 East, Salt Lake City, 03000630

Granite Lumber Company Building, (Sugar House Business District MPS), 1090 East 2100 South, Salt Lake City, 03000629

Petty Motor Company Annex, (Sugar House Business District MPS), 2030 South 900 East, Salt Lake City, 03000634

Redman Van and Storage Company Building, (Sugar House Business District MPS), 1240 East 2100 South, Salt Lake City, 03000635

Richardson—Bower Building, (Sugar House Business District MPS), 1019 East 2100 South, Salt Lake City, 03000636

Sprague Branch of the Salt Lake City Public Library, (Sugar House Business District MPS), 2131 S. Highland Dr., Salt Lake City, 03000637

Sugar House LDS Ward Building, (Sugar House Business District MPS), 1950 South 1200 East, Salt Lake City, 03000631

Sugar House Monument, (Sugar House Business District MPS), 1100 East and 2100 South, Salt Lake City, 03000638

Utah State Liquor Agency #22, (Sugar House Business District MPS), 1938 South 1100 East, Salt Lake City, 03000639

Sanpete County

Mortensen—Nelson House, 291 East 100 South, Moroni, 03000632

Virginia

Arlington County

Al's Motors, 3910 Wilson Blvd., Arlington, 03000628

[FR Doc. 03-15309 Filed 6-17-03; 8:45 am]

BILLING CODE 4312-51-P